DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Approval of the Rookery Bay, Florida and Kachemak Bay, Alaska National Estuarine Research Reserve Management Plan Revisions.

SUMMARY: Notice is hereby given that the Estuarine Reserves Division, Office of Ocean and Coastal Resource Management, National Ocean Service, National Oceanic and Atmospheric Administration, U.S. Department of Commerce approves the Rookery Bay, Florida and the Kachemak Bay, Alaska National Estuarine Research Reserve Management Plan Revisions. The revised management plans outline the administrative structure; the research, education, training, and stewardship goals of the reserve; and the plans for future land acquisition and facility development to support reserve operations.

The Rookery Bay Reserve takes an integrated approach to management, linking research, education, training and stewardship functions to address high priority issues within the 110,000 acre Reserve including land use changes affecting freshwater inflow, loss of native biodiversity, lack of public awareness and community involvement in stewardship, incompatible use by visitors, and ecological impacts of catastrophic change events. The Reserve's Environmental Learning Center provides excellent visitor education experiences and a connecting pedestrian bridge connects visitors to a boardwalk and interpretive trails.

The Kachemak Bay Reserve takes an integrated approach to management by linking research, education, and training functions within the 372,000 acre Reserve to address high priority issues including climate change and harvested species, such as salmon and shellfish. The Reserve will continue research on coastal dynamics, monitoring of invasive species and harmful algal blooms, and will transfer information to coastal decision makers.

The Rookery Bay, Florida Reserve Management Plan can be found at www.floridadep.org/rookery/management/plan.htm and the Kachemak Bay, Alaska Reserve Management Plan can be found at www.adfg.alaska.gov/index.cfm?adfg=kbrr_resources.management.

FOR FURTHER INFORMATION CONTACT: Erica Seiden at (301) 563-1172 or Laurie McGilvray at (301) 563-1158 of NOAA's National Ocean Service, Estuarine Reserves Division, 1305 East-West Highway, N/ORM5, 10th floor, Silver Spring, MD 20910.

Dated: September 13, 2012.
Margaret Davidson,
Acting Director, Office of Ocean and Coastal Resource Management, National Oceanic and Atmospheric Administration.

[FR Doc. 2012-24156 Filed 10-1-12; 8:45 am]

BILLING CODE 3510-08-M